FEDERAL EMERGENCY MANAGEMENT AGENCY

44 CFR Part 65

[Docket No. FEMA-D-7511]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Administrator reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Hazard Mapping Division, Federal Emergency Management Agency, 500 C Street SW., Washington, DC 20472, (202) 646-3461, or (email) Matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR Part 10, Environmental Consideration. No environmental impact assessment has been prepared.

Regulatory Flexibility Act

The Acting Administrator, Federal Insurance and Mitigation Administration, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Alabama: Autauga | Unincorporated Areas | April 7, 2001, April 14, 2001, Prattville Progress | Mr. Clyde O. Chambliss, Jr., Chairman of the County Commission, 134 North Court Street, Prattville, Alabama 36067 | March 26, 2001 | 010314 B
Florida: Manatee | Unincorporated Areas | April 12, 2001, April 19, 2001, Bradenton Herald | Mr. Ernie Padgett, Manatee County Administrator, P.O. Box 1000, Bradenton, Florida 34206 | April 4, 2001 | 120153 B
Georgia: Catoosa | Unincorporated Areas | April 11, 2001, Catoosa County News | Mr. Winfred Long, President of the Catoosa County Board of Commissioners, 7694 Nashville Street, Ringgold, Georgia 30736 | May 12, 2001 | 130028
Illinois:
Macon | City of Decatur | March 21, 2001, March 28, 2001, Decatur Tribune | The Honorable Terry Howley, Mayor of the City of Decatur, 1 Gary K. Anderson Plaza, Decatur, Illinois 62523 | June 27, 2001 | 170429 C
Kendall | Unincorporated Areas | April 19, 2001, April 26, 2001, Kendall County Record | Mr. John A. Church, Chairman of the Kendall County Board, 111 West Fox Street, Yorkville, Illinois 60560 | July 26, 2001 | 170341 D
Indiana:
Noble | Unincorporated Areas | May 30, 2001, June 6, 2001, The News-Sun | Mr. Mark Pankap, President of the Noble County Board of Commissioners, Noble County Courthouse, 101 North Orange Street, Albion, Indiana 46701 | September 5, 2001 | 180183 A&B
Lake | Town of Schererville | March 20, 2001, March 27, 2001, The Times | Mr. Richard Krame, Schererville Town Manager, 833 West Lincoln Highway, Schererville, Indiana 46375 | June 26, 2001 | 180142 B
Kentucky: Jefferson | Unincorporated Areas | April 13, 2001, April 20, 2001, The Courier-Journal | Ms. Rebecca Jackson, Jefferson County Judge Executive, 527 West Jefferson Street, Suite 400, Louisville, Kentucky 40202 | July 20, 2001 | 210120 D
Maine: Knox | Town of Camden | March 15, 2001, March 22, 2001, Camden Herald | Mr. Roger Moody, Manager of the Town of Camden, P.O. Box 1207, Camden, Maine 04843 | March 9, 2001 | 230074 B
Minnesota:
Hennepin | City of Crystal | April 18, 2001, April 25, 2001, Sun Post | The Honorable Peter E. Meinstma, Mayor of the City of Crystal, 4141 Douglas Drive, Crystal, Minnesota 55422 | July 25, 2001 | 270156
Hennepin | City of Medicine Lake | April 18, 2001, April 25, 2001, Sun-Sailor | The Honorable Thomas Schrader, Mayor of the City of Medicine Lake, 10609 South Shore Drive, Medicine Lake, Minnesota 55441 | July 25, 2001 | 270690
Hennepin | City of Minneapolis | April 18, 2001, April 25, 2001, Finance and Commerce | The Honorable Sharon Sayles Belton, Mayor of the City of Minneapolis, Minneapolis City Hall, 350 South Fifth Street, Room 331, Minneapolis, Minnesota 55415 | July 25, 2001 | 270172
Hennepin | City of Plymouth | April 18, 2001, April 25, 2001, Sun-Sailor | The Honorable Joy Tierney, Mayor of the City of Plymouth, 3400 Plymouth Boulevard, Plymouth, Minnesota 55447 | July 25, 2001 | 270179
New Jersey:
Burlington | Township of Evesham | April 19, 2001, April 26, 2001, Central Records | The Honorable Augustus F. Tamburro, Mayor of the Township of Evesham, Municipal Building, 984 Tuckerton Road, Marlton, New Jersey 08053 | April 5, 2001 | 340097 C
Morris | Borough of Madison | March 22, 2001, March 29, 2001, Madison Eagle | The Honorable John J. Dunne, Mayor of the Borough of Madison, Hartley Dodge Memorial, 50 Kings Road, Madison, New Jersey 07940 | June 12, 2001 | 340347 B
Cape May | City of North Wildwood | January 10, 2001, January 17, 2001, The Leader | The Honorable Aldo A. Palombo, Mayor of the City of North Wildwood, Municipal Building, 901 Atlantic Avenue, North Wildwood, New Jersey 08260 | December 27, 2000 | 345308 E
Union | Township of Union | August 7, 2000, August 24, 2000, Union Leader | The Honorable Joseph Flurio, Mayor of the Township of Union, 1976 Morris Avenue, Union, New Jersey 07083 | August 10, 2000 | 340477
New York:
Schoharie | Village of Cobleskill | February 21, 2001, February 28, 2001, Times Journal | The Honorable William Gilmore, Mayor of the Village of Cobleskill, Village Offices, P.O. Box 169, Cobleskill, New York 12043 | August 9, 2001 | 360743 B
Westchester | Village of Larchmont | May 21, 2001, May 28, 2001, The Journal News | Mr. R. Joseph Morgan, Larchmont Village Engineer, Municipal Building, 120 Larchmont Avenue, Larchmont, New York 10538 | November 7, 2001 | 360915 E
Oneida | City of Utica | May 18, 2001, May 25, 2001 The Observer Dispatch | The Honorable Timothy J. Julian, Mayor of the City of Utica, 1 Kennedy Plaza, Utica, New York 13502 | November 7, 2001 | 360558 D.
North Carolina: Buncombe | City of Asheville | May 10, 2001, May 17, 2001, The Asheville Citizen-Times | The Honorable Leni Sitnick, Mayor of the City of Asheville, 70 Court Plaza, P.O. Box 7148, Asheville, North Carolina 28802 | August 16, 2001 | 370032 C
Ohio:
Guernsey | City of Cambridge | April 20, 2001, April 27, 2001, The Jeffersonian | The Honorable Sam A. Salupo, Mayor of the City of Cambridge, 1131 Steubenville Avenue, Cambridge, Ohio 43725 | July 27, 2001 | 390200 C
Athens | Village of Glouster | March 16, 2001, March 23, 2001, The Athens Messenger | The Honorable David L. Angle, Mayor of the Village of Glouster, 16½ Front Street, Glouster, Ohio 45732 | July 20, 2001 | 390018 B
Guernsey | Unincorporated Areas | April 20, 2001, April 27, 2001, The Jeffersonian | Mr. Thomas J. Laughlin, President of the Guernsey County Board of Commissioners, 128 East 8th Street, Suite 101, Cambridge, Ohio 43725 | July 27, 2001 | 390198 C
Lake | Unincorporated Areas | May 3, 2001, May 10, 2001, News-Herald | Mr. Daniel Troy, President of the Lake County Board of Commissioners, 105 Main Street, Painesville, Ohio 44077 | August 9, 2001 | 390771 C
Pennsylvania:
Montgomery | Township of Abington | March 28, 2001, April 4, 2001, The Record | Ms. Barbara Ferrara, President, Township of Abington Board of Commissioners, 1176 Old York Road, Abington, Pennsylvania 19001 | March 16, 2001 | 420695 E
Montgomery | Township of Perkiomen | February 15, 2001, Times Herald | Mr. William Patterson, Chairman of the Board of Supervisors, Township of Perkiomen, 1 Trappe Road, Collegeville, Pennsylvania 19474 | March 17, 2001 | 421915 E
Schuylkill | City of Pottsville | April 6, 2001, April 13, 2001, Pottsville Republican | The Honorable John D. W. Reiley, Mayor of the City of Pottsville, P.O. Box 50, Pottsville, Pennsylvania 17901 | March 23, 2001 | 420785 B
Puerto Rico | Commonwealth | June 19, 2001, June 26, 2001, San Juan Star | The Honorable Rafael Cordero Santiago, Mayor of the Municipality of Ponce, P.O. Box 1709, Ponce, Puerto Rico 00733-1709 | September 26, 2001 | 720000 D&E
Puerto Rico | Commonwealth | March 22, 2001, March 29, 2001, San Juan Star | The Honorable Sila Maria Calderon, Governor of the Commonwealth of Puerto Rico, P.O. Box 82, La Fortaleza, San Juan, Puerto Rico 00901 | June 11, 2001 | 720000 E
Tennessee:
Maury | City of Columbia | May 9, 2001, May 16, 2001, Daily Herald | The Honorable Barbara McIntyre, Mayor of the City of Columbia, 707 North Main Street, Columbia, Tennessee 38401 | August 15, 2000 | 475423 D
Williamson | City of Franklin | April 11, 2001, April 18, 2001, Review Appeal | The Honorable Jerry Sharber, Mayor of the City of Franklin, P.O. Box 305, Franklin, Tennessee 37065 | July 18, 2001 | 470206 D
Maury | Uninncorporated Areas | May 9, 2001, May 16, 2001, Daily Herald | Mr. Edward Harlam, Executive for Maury County, County Courthouse Basement, Public Room 101, Columbia, Tennessee 38401 | August 15, 2001 | 470123 B
Virginia:
Independent City | City of Roanoke | March 30, 2001, April 6, 2001, Roanoke Times | The Honorable Ralph Smith, Mayor of the City of Roanoke, 215 Church Avenue, S.W., Room 452, Roanoke, Virginia 24011 | July 6, 2001 | 510130 D
Augusta | Unincorporated Areas | May 25, 2001, June 1, 2001, The Daily News Record | Mr. Patrick J. Coffield, Augusta County Administrator, P.O. Box 590, Verona, Virginia 24482 | May 11, 2001 | 510013 B
Buchanan | Unincorporated Areas | October 4, 2000, October 11, 2000, Virginia Mountaineer | Mr. William J. Caudill, Buchanan County Administrator, Administrative Office, P.O. Drawer 950, Grundy, Virginia 24614 | January 11, 2001 | 510024
Fauquier | Unincorporated Areas | March 29, 2001, April 5, 2001, Fauquier Citizen | Mr. G. Robert Lee, Fauquier County Administrator, 40 Culpeper Street, Warrenton, Virginia 20186 | July 5, 2001 | 510055 A
Prince William | Unincorporated Areas | April 20, 2001, April 27, 2001, The Potomac News | Mr. Craig S. Gerhart, Prince William County Executive, 1 County Complex Court, Prince William, Virginia 22192 | April 4, 2001 | 510119 D
Spotsylvania | Unincorporated Areas | March 30, 2001, April 6, 2001, Free Lance Star | Mr. L. Kimball Payne III, Spotsylvania County Administrator, P.O. Box 99, Spotsylvania, Virginia 22553 | September 21, 2001 | 510308 C
Wisconsin:
Pierce | Unincorporated Areas | March 21, 2001, March 28, 2001, Pierce County Herald | Mr. Richard Wilhelm, Chairman of the Pierce County Board, P.O. Box 128, Ellsworth, Wisconsin 54011 | June 27, 2001 | 555571 C
Sauk | Unincorporated Areas | May 29, 2001, News-Republic | Mr. Melvin Rose, Sauk County Board Chairperson, 505 Broadway Street, Room 140, Baraboo, Wisconsin 53913 | June 21, 2001 | 550391 D

(Catalog of Federal Domestic Assistance No. 83.100, “Flood Insurance.”)
Dated: July 18, 2001.
Robert F. Shea,
Acting Administrator, Federal Insurance and Mitigation Administration.

[FR Doc. 01-18737 Filed 7-26-01; 8:45 am]

BILLING CODE 6718-04-P